DEPARTMENT OF HOMELAND SECURITY

Office of the Citizenship and Immigration Services Ombudsman; DHS CIS Ombudsman Case Problem Submission

AGENCY: Office of the Citizenship and Immigration Services Ombudsman, DHS.

ACTION: Notice; 30-day notice of information collections under review: DHS Form 7001, OMB Control Number 1601-0004.

SUMMARY: The Department of Homeland Security, Office of the Citizenship and Immigration Services Ombudsman, submits this extension for the following information collection request (ICR) to the Office of Management and Budget (OMB) for review and clearance in accordance with the Paperwork Reduction Act of 1995 (Pub. L. 104-13, 44 U.S.C. Chapter 35). The Office of the Citizenship and Immigration Services Ombudsman is soliciting comments concerning an extension to an existing information collection, DHS CIS Ombudsman Case Problem Submission, DHS Form 7001. The information collection was previously published in the Federal Register on September 26, 2007, at 72 FR 54669, allowing for OMB review and a 60-day public comment period. Comments received by DHS are being reviewed as applicable. The purpose of this notice is to allow an additional 30 days for public comments.

DATES: Comments are encouraged and will be accepted until December 26, 2007. This process is conducted in accordance with 5 CFR 1320.10.

Comments: Interested persons are invited to submit written comments on the proposed information collection to the Office of Information and Regulatory Affairs, Office of Management and Budget. Comments should be addressed to Nathan Lesser, Desk Officer, Department of Homeland Security, Office of the Citizenship and Immigration Services Ombudsman, and sent via electronic mail to oira_submission@omb.eop.gov or faxed to (202) 395-6974.

The Office of Management and Budget is particularly interested in comments which:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submissions of responses.

FOR FURTHER INFORMATION CONTACT: A copy of this ICR, with applicable supporting documentation, may be obtained by contacting the Department of Homeland Security, Office of the CIS Ombudsman, Director of Communications, Mail Stop 1225, Washington, DC 20528-1225; telephone (202) 357-8100 (this is not a toll free number).

SUPPLEMENTARY INFORMATION:

Analysis

Agency: Department of Homeland Security, Office of the Citizenship and Immigration Services Ombudsman.

Title: DHS CIS Ombudsman Case Problem Submission.

OMB No.: 1601-0004.

Frequency: One-time response.

Affected Public: Individuals or households. This information collection is necessary for CISOMB to identify problem areas, propose changes, and assist individuals experiencing problems during adjudication of an immigrant benefit with USCIS.

Estimated Number of Respondents: 2,600 respondents.

Estimated Time per Respondent: 1 hour per response.

Total Burden Hours: 2,600.

Total Burden Cost: (capital/startup): None.

Total Burden Cost: (operating/maintaining): None.

Description: The Department of Homeland Security, Office of the Deputy Secretary, Office of the Citizenship and Immigration Services Ombudsman (CISOMB), collects information to receive and process correspondence received from individuals, employers, and their designated representatives to: (1) Assist individuals and employers in resolving problems during interactions with U.S. Citizenship and Immigration Services (USCIS); (2) identify areas in which individuals and employers have problems in dealing with USCIS; and (3) and to the extent possible, propose changes to mitigate problems as mandated by the Homeland Security Act of 2002, Section 452.

Scott Charbo,
Chief Information Officer.

[FR Doc. E7-22856 Filed 11-21-07; 8:45 am]

BILLING CODE 4410-10-P